DEPARTMENT OF THE INTERIOR

National Park Service

[NPS-WASO-NAGPRA-15282; PPWOCRADN0-PCU00RP14.R50000]

Notice of Inventory Completion: Texas A&M University, College Station, TX

AGENCY: National Park Service, Interior.

ACTION: Notice.

SUMMARY: Texas A&M University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Texas A&M University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains under the control of Texas A&M University, College Station, TX. The human remains were removed from Cochise County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Texas A&M University (TAMU) professional staff in 1995, and the remains were determined to be ancestral to the Apache Tribe of Oklahoma; Fort Sill Apache Tribe of Oklahoma; Jicarilla Apache Nation, New Mexico; Mescalero Apache Tribe of the Mescalero Reservation, New Mexico; Tohono O'odham Nation of Arizona; and the White Mountain Apache Tribe of the Fort Apache Reservation, Arizona. In 2010, representatives of these tribes were invited to consult with TAMU for the purpose of determining the place and manner of repatriation, but no tribal representatives contacted TAMU in response to this invitation.

History and Description of the Remains

Sometime in the 1980s, human remains representing, at minimum, one individual were removed from the Whitewater Draw II site in Cochise County, AZ, by Dr. Michael Waters of TAMU. The human remains were determined to be one individual of indeterminate age and sex (TAMU NAGPRA 73). No known individuals were identified. No associated funerary objects are present. The diagnostic artifacts recovered in the same strata and area indicate that these human remains were early prehistoric, possibly Paleoinidian.

In 1985, human remains representing, at minimum, one individual were removed from the Sulphur Springs site (AZ FF:10:14) in Cochise County, AZ, by Dr. Michael Waters of TAMU. The human remains were determined to be one adult female (TAMU NAGPRA 74). No known individuals were identified. No associated funerary objects are present. The diagnostic artifacts recovered from the same site indicate that these remains date to the late Paleoindian or early Archaic period.

Based on the geographic location of these sites, TAMU staff found it reasonable to trace a relationship of shared group identity between the human remains in this notice and the Apache Tribe of Oklahoma; Fort Sill Apache Tribe of Oklahoma; Jicarilla Apache Nation, New Mexico; Mescalero Apache Tribe of the Mescalero Reservation, New Mexico; Tohono O'odham Nation of Arizona; and the White Mountain Apache Tribe of the Fort Apache Reservation, Arizona.

Determinations Made by Texas A&M University

Officials of Texas A&M University have determined that:

• Pursuant to 25 U.S.C. 3001(9), the human remains described in this notice represent the physical remains of two individuals of Native American ancestry.

• Pursuant to 25 U.S.C. 3001(2), there is a relationship of shared group identity that can be reasonably traced between the Native American human remains and the Apache Tribe of Oklahoma; Fort Sill Apache Tribe of Oklahoma; Jicarilla Apache Nation, New Mexico; Mescalero Apache Tribe of the Mescalero Reservation, New Mexico; Tohono O'odham Nation of Arizona; and the White Mountain Apache Tribe of the Fort Apache Reservation, Arizona.

Additional Requestors and Disposition

Lineal descendants or representatives of any Indian tribe or Native Hawaiian organization not identified in this notice that wish to request transfer of control of these human remains should submit a written request with information in support of the request to Dr. Suzanne L. Eckert, Department of Anthropology, Texas A&M University, College Station, TX 77843-4352, telephone (979) 845-5242, by May 19, 2014. After that date, if no additional requestors have come forward, transfer of control of the human remains to the Apache Tribe of Oklahoma; Fort Sill Apache Tribe of Oklahoma; Jicarilla Apache Nation, New Mexico; Mescalero Apache Tribe of the Mescalero Reservation, New Mexico; Tohono O'odham Nation of Arizona; and the White Mountain Apache Tribe of the Fort Apache Reservation, Arizona, may proceed.

Texas A&M University is responsible for notifying the Apache Tribe of Oklahoma; Fort Sill Apache Tribe of Oklahoma; Jicarilla Apache Nation, New Mexico; Mescalero Apache Tribe of the Mescalero Reservation, New Mexico; Tohono O'odham Nation of Arizona; and the White Mountain Apache Tribe of the Fort Apache Reservation, Arizona, that this notice has been published.

Dated: March 13, 2014.
Melanie O'Brien,
Acting Manager, National NAGPRA Program.

[FR Doc. 2014-08814 Filed 4-16-14; 8:45 am]

BILLING CODE 4312-50-P